COMMISSION ON CIVIL RIGHTS

Notice of Public Meeting of the Iowa Advisory Committee, Revision of Virtual Meeting Platform and Additional Meeting Information

AGENCY: Commission on Civil Rights.

ACTION: Notice; revision of virtual meeting platform and additional meeting information.

SUMMARY: The Commission on Civil Rights is holding a meeting of the Iowa Advisory Committee on Tuesday, September 27, 2022, at 2 p.m. (CT). This notice revises the meeting virtual information. The notice is in the Federal Register of Tuesday, September 27, 2022.

FOR FURTHER INFORMATION CONTACT: Ana Fortes, (202) 618-0857, afortes@usccr.gov.

SUPPLEMENTARY INFORMATION:

Revision: Replace with Zoom virtual details as follows: https://www.zoomgov.com/j/1614116848.

Join via phone 833 435 1820 USA Toll Free; Access Code: 161 411 6848#.

Dated: September 8, 2022.
David Mussatt,
Supervisory Chief, Regional Programs Unit.

[FR Doc. 2022-19754 Filed 9-12-22; 8:45 am]

BILLING CODE P